DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa (FEMA Docket No.: B-1096) | Town of Buckeye (09-09-0764P) | November 19, 2009; November 26, 2009; Arizona Business Gazette | The Honorable Jackie A. Meck, Mayor, Town of Buckeye, 530 East Monroe Avenue, Buckeye, AZ 85326 | March 26, 2010 | 040039
Maricopa (FEMA Docket No.: B-1096) | Unincorporated areas of Maricopa County (09-09-0764P) | November 19, 2009; November 26, 2009; Arizona Business Gazette | The Honorable Andrew W. Kunasek Chairman, Maricopa County Board of Supervisors, 301 West Jefferson Street, 10th Floor, Phoenix, AZ 85003 | March 26, 2010 | 040037
California:
San Diego (FEMA Docket No.: B-1096) | Unincorporated areas of San Diego (09-09-1604P) | November 20, 2009; November 27, 2009; San Diego Transcript | The Honorable Dianne Jacob, Chairwoman, San Diego County Board of Supervisors, 1600 Pacific Highway, San Diego, CA 92101 | March 29, 2010 | 060284
Santa Clara (FEMA Docket No.: B-1096) | City of Santa Clara (09-09-0375P) | October 21, 2009; October 28, 2009; Santa Clara Weekly | The Honorable Patricia M. Mahan, Mayor, City of Santa Clara, 1500 Warburton Avenue, Santa Clara, CA 95050 | February 25, 2010 | 060350
Colorado:
Douglas (FEMA Docket No.: B-1096) | Town of Castle Rock (09-08-0908P) | November 12, 2009; November 19, 2009; Douglas County News-Press | The Honorable Randy A. Reed, Mayor, Town of Castle Rock, 100 North Wilcox Street, Castle Rock, CO 80104 | March 19, 2010 | 080050
Douglas (FEMA Docket No.: B-1096) | Unincorporated areas of Douglas County (09-08-0908P) | November 12, 2009; November 19, 2009; Douglas County News-Press | The Honorable Melanie Worley, Chairman, Douglas County Board of Commissioners, 100 3rd Street, Castle Rock, CO 80104 | March 19, 2010 | 080049
Grand (FEMA Docket No.: B-1096) | Town of Fraser (10-08-0009P) | November 19, 2009; November 26, 2009; Middle Park Times | The Honorable Fran Cook, Mayor, Town of Fraser, P.O. Box 370 Fraser, CO 80442 | March 26, 2010 | 080073
Grand (FEMA Docket No.: B-1096) | Unincorporated areas of Grand County (10-08-0009P) | November 19, 2009; November 26, 2009; Middle Park Times | The Honorable Gary Bumgarner, Chairman, Grand County Board of Commissioners P.O. Box 264, Hot Sulphur Springs, CO 80451 | March 26, 2010 | 080280
Teller (FEMA Docket No.: B-1096) | Unincorporated areas of Teller County (09-08-0500P) | November 4, 2009; November 11, 2009; Pikes Peak Courier View | The Honorable James Ignatius, Chairman, Teller County Board of Commissioners P.O. Box 959, Cripple Creek, CO 80813 | March 11, 2010 | 080173
Teller (FEMA Docket No.: B-1096) | City of Woodland Park (09-08-0500P) | November 4, 2009; November 11, 2009; Pikes Peak Courier View | The Honorable Steve Randolph, Mayor, City of Woodland Park, 220 West South Avenue, Woodland Park, CO 80866 | March 11, 2010 | 080175
Illinois:
Will (FEMA Docket No.: B-1096) | Village of Plainfield (08-05-4590P) | November 30, 2009; December 7, 2009; Herald-News | The Honorable Michael P. Collins, President, Village of Plainfield, 24401 West Lockport Street, Plainfield, IL 60544 | December 21, 2009 | 170771
Will (FEMA Docket No.: B-1096) | Unincorporated areas of Will County (08-05-4590P) | November 30, 2009; December 7, 2009; Herald-News | The Honorable Lawrence M. Walsh, Executive, Will County, 302 North Chicago Street, Joliet, IL 60432 | December 21, 2009 | 170695
Louisiana: Livingston (FEMA Docket No.: B-1096) | Unincorporated areas of Livingston Parish (09-06-0692P) | November 10, 2009; November 17, 2009; The Advocate | The Honorable Mike Grimmer, President, Livingston Parish, P.O. Box 427 Livingston, LA 70754 | March 17, 2010 | 220113
Minnesota: Anoka (FEMA Docket No.: B-1096) | City of Ramsey (09-05-4652P) | November 20, 2009; November 27, 2009; Anoka County Union | The Honorable Thomas G. Gamec, Mayor, City of Ramsey, 7550 Sunwood Drive Northwest, Ramsey, MN 55303 | December 14, 2009 | 270681
Nevada: Lyon (FEMA Docket No.: B-1096) | Unincorporated areas of Lyon County (09-09-0238P) | November 18, 2009; November 25, 2009; Dayton Courier | The Honorable Phyllis Hunewill, Chair, Lyon County Board of Commissioners, 30 Desert Creek, Wellington, NV 89444 | April 2, 2010 | 320029
South Dakota:
Lincoln (FEMA Docket No.: B-1096) | Unincorporated areas of Lincoln County (09-08-0747P) | November 5, 2009; November 12, 2009; Lennox Independent | The Honorable Dale L. Long, Chairman, Lincoln County Board of Commissioners, 27115 475th Avenue, Harrisburg, SD 57032 | October 28, 2009 | 460277
Lincoln (FEMA Docket No.: B-1096) | Town of Tea (09-08-0747P) | November 5, 2009; November 12, 2009; Lennox Independent | The Honorable John Lawler, Mayor, Town of Tea, 600 East 1st Street, Tea, SD 57064 | October 28, 2009 | 460143
Tennessee: Bradley (FEMA Docket No.: B-1096) | City of Cleveland (09-04-1322P) | November 30, 2009; December 7, 2009; Cleveland Daily Banner | The Honorable Tom Rowland, Mayor, City of Cleveland, P.O. Box 1519, Cleveland, TN 37311 | April 6, 2010 | 470015
Texas:
Bell (FEMA Docket No.: B-1096) | City of Killeen (08-06-2994P) | October 13, 2009; October 20, 2009; Killeen Daily Herald | The Honorable Timothy L. Hancock, Mayor, City of Killeen, P.O. Box 1329, Killeen, TX 76540 | October 30, 2009 | 480031
Lubbock (FEMA Docket No.: B-1096) | City of Lubbock (08-06-2723P) | November 16, 2009; November 23, 2009; Lubbock Avalanche-Journal | The Honorable Tom Martin, Mayor, City of Lubbock, P.O. Box 2000, Lubbock, TX 79457 | March 23, 2010 | 480452
Virginia: Arlington (FEMA Docket No.: B-1096) | Arlington County (09-03-1117P) | December 3, 2009; December 10, 2009; Sun-Gazette | The Honorable Barbara A. Favola, Chairperson, Arlington County Board, 2100 Clarendon Boulevard, Suite 813, Arlington, VA 22201 | April 9, 2010 | 515500
Wisconsin: Milwaukee (FEMA Docket No.: B-1096) | Village of Hales Corner (09-05-4413P) | November 12, 2009; November 19, 2009; My Community Now | The Honorable Robert G. Ruesch, President, Village of Hales Corners, 5740 South 124th Street, Hales Corners, WI 53130 | March 19, 2010 | 550524

(Catalog of Federal Domestic Assistance No. 97.022, “Flood Insurance.”)

Dated: June 11, 2010.
Sandra K. Knight,
Deputy Federal Insurance and Mitigation Administrator, Mitigation, Department of Homeland Security, Federal Emergency Management Agency.

[FR Doc. 2010-15235 Filed 6-22-10; 8:45 am]

BILLING CODE 9110-12-P